DEPARTMENT OF THE INTERIOR

Bureau of Land Management

[BLM_NV_FRN_MO4500182346]

Notice of Availability of the Draft Resource Management Plan Amendment and Environmental Impact Statement for the Purple Sage Energy Center Project in Clark County, NV

AGENCY: Bureau of Land Management, Interior.

ACTION: Notice of availability.

SUMMARY: In compliance with the National Environmental Policy Act of 1969, as amended (NEPA), and the Federal Land Policy and Management Act of 1976, as amended (FLPMA), the Bureau of Land Management (BLM) has prepared a Draft Resource Management Plan (RMP) Amendment and Draft Environmental Impact Statement (EIS) for the Purple Sage Energy Center Project (Project) and by this notice is providing information announcing the opening of the comment period on the Draft RMP Amendment/EIS. The Purple Sage Energy Project was formerly known as the Golden Currant Solar Project.

DATES: This notice announces the opening of a 90-day comment period for the Draft RMP Amendment/EIS beginning with the date following the Environmental Protection Agency's (EPA) publication of its Notice of Availability (NOA) in the Federal Register. The EPA usually publishes its NOAs on Fridays.

To afford the BLM the opportunity to consider comments on the Draft RMP Amendment/EIS, please ensure your comments are received prior to the close of the 90-day comment period or 15 days after the last public meeting, whichever is later.

The BLM will be holding one in-person public meeting and one virtual public meeting during the public comment period.

• In-Person Meeting

—Date and Time: January 14, 2025, 6 p.m. to 8 p.m. Pacific Standard Time (PST)

—Location: Pahrump Nugget Hotel and Casino, 681 NV Highway 160, Pahrump, Nevada 89048

• Virtual Meeting

—Date and Time: January 16, 2025, 6 p.m. to 8 p.m. PST

—Registration information: https://eplanning.blm.gov/eplanning-ui/project/2021533/510.

Details on public meetings and pertinent documents will be provided on the National NEPA Register project website: https://eplanning.blm.gov/eplanning-ui/project/2021533/510.

ADDRESSES: The Draft RMP Amendment/EIS is available for review on the BLM National NEPA Register project website at https://eplanning.blm.gov/eplanning-ui/project/2021533/510. Additionally, a copy of the Draft RMP Amendment/EIS is physically available at the following locations:

• BLM Southern Nevada District Office, Las Vegas Field Office, 4701 N Torrey Pines Drive, Las Vegas, Nevada 89130

• Pahrump Community Library, 701 East Street, Pahrump, Nevada 89408

• Tecopa Branch Library, 408 Tecopa Hot Springs Road, Tecopa, California 92389

Written comments related to the Draft RMP Amendment/EIS for the Purple Sage Energy Center Project may be submitted by any of the following methods:

• Website: https://eplanning.blm.gov/eplanning-ui/project/2021533/510.

• Email: BLM_NV_SND_EnergyProjects@blm.gov.

• Mail: BLM Las Vegas Field Office, Attn: Purple Sage Energy Center Project, 4701 N Torrey Pines Drive, Las Vegas, Nevada 89130.

FOR FURTHER INFORMATION CONTACT: Jessica Headen, Project Manager, telephone (702) 515-5206; address 4701 N Torrey Pines Drive, Las Vegas, Nevada 89130; email BLM_NV_SND_EnergyProjects@blm.gov. Individuals in the United States who are deaf, deafblind, hard of hearing, or have a speech disability may dial 711 (TTY, TDD, or TeleBraille) to access telecommunications relay services for contacting Jessica Headen. Individuals outside the United States should use the relay services offered within their country to make international calls to the point-of-contact in the United States.

SUPPLEMENTARY INFORMATION: This document provides notice that the BLM has prepared a Draft RMP Amendment/EIS and provides information announcing the opening of the comment period on the Draft RMP Amendment/EIS. The Draft RMP Amendment is being considered to allow the BLM to evaluate the effects of modifying two existing, undeveloped utility corridors that intersect the Project site. This change would require amending the existing 1998 Las Vegas RMP.

The planning area in Clark and Nye counties, Nevada, encompasses approximately 9,890,365 acres within the Southern Nevada District area.

A BLM designated energy corridor, Segment #224-225, North Pahrump/U.S. 95 to Las Vegas/Ivanpah Valley (a Section 368 energy corridor), along the Clark County/Nye County border intersects a portion of the Project site. A locally designated utility corridor, established in the 1998 Las Vegas RMP (the RMP-designed utility corridor), intersects a portion of the Project site. An amendment to the 1998 Las Vegas RMP is being considered to modify these two existing undeveloped corridors to avoid the Project site.

The BLM is utilizing the NEPA substitution process to comply with the requirements of Section 106 of the National Historic Preservation Act, 54 U.S.C. 306108, consistent with 36 CFR 800.8(c). The BLM, as lead Federal agency, has incorporated information and the steps of the Section 106 process into the Draft EIS, and publication of the Draft EIS will allow the consulting parties and the public an opportunity to review and comment on the process as provided in 36 CFR 800.8(c)(2).

Purpose and Need

The need for the BLM's action (processing the Applicant's application) is to respond to the Noble Solar, LLC's (Applicant) request for a right-of-way (ROW) authorization to construct, operate, maintain, and decommission a proposed solar facility, associated battery storage, and an interconnection to the regional transmission system (Project), in accordance with the BLM's responsibility under title V of FLPMA and 43 CFR part 2800. The Project would sit on approximately 4,456 acres of BLM-managed public land located in the Pahrump Valley in Clark County designated as a solar variance area. The site is approximately five miles southeast of Pahrump, 26 miles west of Las Vegas, and less than two miles southwest of State Route 160. The BLM's action of considering the ROW application also meets the BLM's obligation to contribute towards the legislative and administrative goals of advancing the development of renewable energy production on Federal public lands as directed by section 3104 of the Energy Act of 2020 and Executive Order 14057.

The Project as proposed would not conform to the 1998 Las Vegas RMP as required by 43 CFR 1610.5-3(a). The BLM would need to amend the 1998 Las Vegas RMP to bring the Project into compliance. In particular, the Applicant's proposed Project does not conform with the management objectives for the two undeveloped utility corridors that intersect the Project site.

The purpose of the BLM's action is to determine if the Applicant's Project and alternatives are consistent with relevant laws, regulations, and policies, and to consider whether to grant, grant with modifications, or deny the ROW. The purpose of the Draft RMP Amendment is to ensure that any development of renewable energy production in the general vicinity of the Applicant's proposed Project site conforms with the RMP's provisions, as provided for in 43 CFR 1610.5-3(c), specifically by modifying the location of the utility corridors to avoid the Project site.

The Draft RMP Amendment/EIS addresses the direct, indirect, and cumulative environmental impacts of the Proposed Action and alternatives. Alternatives to the Proposed Action were developed by the BLM to avoid or reduce various resource conflicts. Key resource constraints include habitat for and presence of Mojave desert tortoise, which is listed as threatened under the Endangered Species Act; over allocated groundwater resources; paleontological resources; Pahrump Valley buckwheat; native desert vegetation at the Project site; recreation use in the surrounding area; proximity to local communities; and generation of dust.

Alternatives Including the Preferred Alternative

The BLM has analyzed three alternatives in detail, including the No Action Alternative. These are the Applicant Proposed Action, Alternative Action 1 (BLM preferred alternative), and the No Action Alternative.

Alternative Action 1, the BLM preferred alternative that is also referred to as the Resources Integration Alternative, was identified in response to issues raised by the public and agency considerations. The intent of Alternative 1 is to minimize long-term disturbance to vegetation and soils within the solar facility by setting restoration standards to ensure that long-term disturbance to vegetation is minimized. The established disturbance threshold for intensive disturbance construction methods, such as grading, disc and roll, and spot grading, under the Resources Integration Alternative is 20 percent of the development areas. Given the demonstrated limitations with equipment tolerances and the steep slopes of the development areas of the Project site, it may be necessary to utilize intensive disturbance construction methods for up to 35 percent of the development area for development of the project. Intensive disturbance methods within the development areas that are not for permanent facilities, such as roads, inverters, substations, or battery energy storage systems, that exceed the 20 percent threshold established for the Resources Integration Alternative would be subject to additional restoration requirements. Restoration would be implemented in accordance with and to meet the 60 percent native vegetation density standards required for the non-graded areas in the panel array blocks.

The No Action Alternative would be a continuation of existing conditions and the ROW would not be approved.

The BLM further considered a number of additional alternatives but dismissed these alternatives from detailed analysis as explained in the Draft RMP Amendment/EIS and Alternatives Report.

The BLM has identified Alternative Action 1—Resources Integration Alternative as the preferred alternative. Alternative Action 1 was found to best meet the BLM's planning guidance and is designed to be a Project lifecycle alternative as the alternative addresses not only construction, but also operations, maintenance, and decommissioning of the solar facility.

Mitigation

The BLM included seventeen mitigation measures including, but not limited to, the following measures to address key resources:

• Air emissions reduction measures (MM AIR-1)

• Reduced project footprint (MM WILD-1)

• Desert tortoise burrows (MM WILD-2)

• Pre-construction western monarch butterfly surveys (MM WILD-3)

• Pahrump Valley Buckwheat protection and topsoil salvage (MM VG-1)

• Invasive species management (MM VG-2)

• Timing of vegetation maintenance (MM VG-3)

• Tribal participation plan (MM NAC-1)

• Aviation glare notification (MM VR-1)

• Insulating gases (MM CC-1)

• Components of traffic and transportation plan (MM TRA-1)

• SR 160 and Tecopa Road intersection improvements (MM TRA-2)

• Cultural resource avoidance and monitoring (MM CR-1)

• Discovery of human remains (MM CR-2)

• Coordination with transmission line ROW holders/applicants (MM LU-1)

• Requirements for the paleontological resources monitoring and mitigation plan (MM PR-1)

• Groundwater pumping meter and development of a groundwater monitoring and reporting plan (MM WR-1).

These mitigation measures, along with Project Design Features required by the Southern Nevada District Office, Solar PEIS, management plans, and interagency operating procedures, are provided in full in Appendix B of the Draft RMP Amendment/EIS.

Schedule for the Decision-Making Process

The BLM will provide additional opportunities for public participation consistent with the NEPA and land use planning processes, including a 30-day public protest period and a concurrent 60-day Governor's consistency review on the Proposed RMP Amendment. The Proposed RMP Amendment/Final EIS is anticipated to be available for public protest by early summer 2025, and if the Project is authorized, the approved RMP Amendment and Record of Decision would be available by late summer 2025.

The BLM will continue to consult with Indian Tribal Nations on a government-to-government basis in accordance with Executive Order 13175, BLM MS 1780 and other Departmental policies. Tribal concerns will be given due consideration.

Before including your address, phone number, email address, or other personal identifying information in your comment, you should be aware that your entire comment—including your personal identifying information—may be made publicly available at any time. While you can ask us in your comment to withhold your personal identifying information from public review, we cannot guarantee that we will be able to do so.

(Authority: 40 CFR 1501.9, 40 CFR 1506.10, 43 CFR 1610.2 and 43 CFR part 2800)

Kimberly Prill,
Acting State Director.

[FR Doc. 2024-26598 Filed 11-14-24; 8:45 am]

BILLING CODE 4331-21-P